DEPARTMENT OF COMMERCE

International Trade Administration

[A-570-909]

Certain Steel Nails from the Peoples' Republic of China: Notice of Partial Rescission of the First Antidumping Duty Administrative Review

AGENCY: Import Administration, International Trade Administration, Department of Commerce.

EFFECTIVE DATE: July 23, 2010.

FOR FURTHER INFORMATION CONTACT: Emeka Chukwudebe or Matthew Renkey, Office 9, AD/CVD Operations, Import Administration, International Trade Administration, U.S. Department of Commerce, 14th Street and Constitution Avenue, NW., Washington, DC 20230; telephone: (202) 482-0219 and (202) 482-2312, respectively.

SUPPLEMENTARY INFORMATION:

Background

On August 3, 2009, the Department published a notice of opportunity to request an administrative review on the antidumping order on certain steel nails from the People's Republic of China (“PRC”) for the period of review (“POR”) January 23, 2008, through July 31, 2009. See Antidumping or Countervailing Duty Order, Finding, or Suspended Investigation; Opportunity To Request Administrative Review, 74 FR 38397 (August 3, 2009). Based upon requests for review from various parties, on September 22, 2009, the Department initiated the first antidumping duty administrative review on certain steel nails from the PRC, covering 158 companies. See Initiation of Antidumping and Countervailing Duty Administrative Reviews and Request for Revocation in Part, 74 FR 48224 (September 22, 2009) (“Initiation Notice”). Due to withdrawals of request for review, we are rescinding this administrative review with respect to 31 companies.¹

¹ These companies include: 1) Beijing Daruixing Nails Products Co., Ltd.; 2) Beijing Hong Sheng Metal Products Co., Ltd.; 3) Beijing Hongsheng Metal Products Co., Ltd.; 4) Chongqing Hybest Tools Group Co., Ltd.; 5) Guangdong Foreign Trade Import & Export Corporation; 6) Hebei Cangzhou New Century Foreign Trade Co., Ltd.; 7) Jining Huarong Hardware Products Co., Ltd.; 8) Mingguang Abundant Hardware Products Co., Ltd.; 9) PT Enterprise Inc.; 10) Qingdao Jisco Co., Ltd.; 11) Qingdao Koram Steel Co., Ltd.; 12) SDC International Australia Pty., Ltd.; 13) Shandong Oriental Cherry Hardware Group Co., Ltd.; 14) Shandong Oriental Cherry Hardware Import and Export Co., Ltd.; 15) Shanghai Seti Enterprise International Co., Ltd.; 16) Shanghai Yueda Nails Industry Co., Ltd.; 17) Shanxi Hairui Trade Co., Ltd.; 18) Shanxi Pioneer Hardware Industrial Co.. Ltd.; 19) Shanxi Tianli Industries Co.; 20) Shanxi Yuci Broad Wire Products Co., Ltd.; 21) S-mart (Tianjin) Technology Development Co., Ltd.; 22) Suntec Industries Co., Ltd.; 23) Suzhou Xingya Nail Co., Ltd.; 24) Tianjin Lianda Group Co., Ltd.; 25) Tianjin Universal Machinery Imp &Exp Corporation; 26) Union Enterprise (Kunshan) Co., Ltd.; 27) Wuhu Xin Lan De Industrial Co., Ltd.; 28) Xi'an Metals & Minerals Import and Export Co., Ltd.; 29) Xuzhou CIP International Group Co., Ltd.; 30) Zhaoqing Harvest Nails Co., Ltd.; and 31) Tianjin Xiantong.

Partial Rescission of Review

The applicable regulation, 19 CFR 351.213(d)(1), states that if a party that requested an administrative review withdraws the request within 90 days of the publication of the notice of initiation of the requested review, the Secretary will rescind the review. The regulation further states that the Secretary may extend the deadline if it is reasonable to do so. On January 26, 2010, Petitioner² requested an extension of the deadline for withdrawal of administrative review. On February 16, 2010, the Department extended the deadline for withdrawal of administrative review requests by 10 days.³ Petitioner withdrew its review request with respect to 31 exporters of subject merchandise within the deadline. Furthermore, respondent Tianjin Xiantong Material & Trade Co., Ltd. (“Tianjin Xiantong”) also withdrew its request for a review within the deadline.

² Mid Continent Nail Corporation (“Petitioner ).

³ See Certain Steel Nails from the People's Republic of China: Extension of the Deadline for Withdrawal of Administrative Review Requests, dated February 16, 2010 (“Extension Letter”).

Assessment Rates

The Department will instruct U.S. Customs and Border Protection “CBP”) to assess antidumping duties on all appropriate entries. For those companies for which this review has been rescinded and which have a separate rate from a prior segment of this proceeding, antidumping duties shall be assessed at rates equal to the cash deposit of estimated antidumping duties required at the time of entry, or withdrawal from warehouse, for consumption, in accordance with 19 CFR 351.212(c)(2). Accordingly, the Department intends to issue appropriate assessment instructions directly to CBP 15 days after publication of this notice for the following companies: 1) Beijing Daruixing Nails Products Co., Ltd.; 2) Chongqing Hybest Tools Group Co., Ltd.; 3) Guangdong Foreign Trade Import &Export Corporation; 4) Hebei Cangzhou New Century Foreign Trade Co., Ltd.; 5) Jining Huarong Hardware Products Co., Ltd.; 6) Mingguang Abundant Hardware Products Co., Ltd.; 7) PT Enterprise Inc.; 8) SDC International Australia Pty., Ltd.; 9) Shandong Oriental Cherry Hardware Group Co., Ltd.; 10) Shandong Oriental Cherry Hardware Import and Export Co., Ltd.; 11) Shanghai Seti Enterprise International Co., Ltd.; 12) Shanghai Yueda Nails Industry Co., Ltd.; 13) Shanxi Hairui Trade Co., Ltd.; 14) Shanxi Pioneer Hardware Industrial Co.. Ltd.; 15) Shanxi Tianli Industries Co.; 16) Shanxi Yuci Broad Wire Products Co., Ltd.; 17) S-mart (Tianjin) Technology Development Co., Ltd.; 18) Suntec Industries Co., Ltd.; 19) Tianjin Lianda Group Co., Ltd.; 20) Tianjin Universal Machinery Imp &Exp Corporation; 21) Union Enterprise (Kunshan) Co., Ltd.; 22) Wuhu Xin Lan De Industrial Co., Ltd.; 23) Xi'an Metals & Minerals Import and Export Co., Ltd.; 24) Xuzhou CIP International Group Co., Ltd.; 25) Zhaoqing Harvest Nails Co., Ltd.; 26) Suzhou Xingya Nail Co., Ltd.; 27) Beijing Hong Sheng Metal Products Co., Ltd.; 28) Beijing Hongsheng Metal Products Co., Ltd.⁴; and 29) Tianjin Xiantong. This administrative review will continue with respect to the remaining companies in the Initiation Notice.

⁴ Beijing Hong Sheng Metal Products Co., Ltd. and Beijing Hongsheng Metal Products Co., Ltd. appear to be slight variations of the name for a single company. Beijing Hong Sheng Metal Products Co., Ltd. received a separate rate as a producer/exporter in the original investigation, and Beijing Hongsheng Metal Products Co., Ltd. was the producer in a combination rate with the exporter Hebei Cangzhou New Century Foreign Trade Co., Ltd., for which this review is also being rescinded. As such, the Department is rescinding the review for both variations of the name.

The Department cannot order liquidation for companies which, although they are no longer under review as a separate entity, may still be under review as part of the PRC-wide entity. In this case, the Department cannot order liquidation for certain companies that have not received a separate rate, as an exporter, from the prior investigation. See Certain Steel Nails from the People's Republic of China: Final Determination of Sales at Less Than Fair Value and Partial Affirmative Determination of Critical Circumstances, 73 FR 33977 (June 16, 2008). Therefore, the Department cannot, at this time, order liquidation of entries for the following companies: 1) Qingdao Jisco Co., Ltd.; and 2) Qingdao Koram Steel Co., Ltd. The Department intends to issue liquidation instructions for the PRC-wide entity 15 days after publication of the final results of this review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice is issued and published in accordance with section 777(i)(1) of the Tariff Act of 1930, as amended, and 19 CFR 351.213(d)(4).

Dated: June 30, 2010.
John M. Andersen,
Acting Deputy Assistant Secretary for Antidumping and Countervailing Duty Operations.

[FR Doc. 2010-18107 Filed 7-22-10; 8:45 am]

BILLING CODE 3510-DS-S